INTERNATIONAL TRADE COMMISSION

[Investigation No. 731-TA-1455 (Review)]

Polyethylene Terephthalate (PET) Sheet From South Korea; Termination of Five-Year Review

AGENCY: United States International Trade Commission.

ACTION: Notice.

SUMMARY: The Commission instituted the subject five-year review on August 1, 2025 to determine whether revocation of the antidumping duty order on Polyethylene Terephthalate (PET) Sheet from South Korea would be likely to lead to continuation or recurrence of material injury. Due to the lapse in appropriations and Federal Government shutdown, on November 14, 2025, the Department of Commerce (“Commerce”) tolled all deadlines in administrative proceedings by 47 days. Additionally, due to a backlog of documents that were electronically filed via Enforcement and Compliance's Antidumping and Countervailing Duty Centralized Electronic Service System (ACCESS) during the Federal Government shutdown, on November 24, 2025, Commerce tolled all deadlines in administrative proceedings by an additional 21 days. On January 12, 2026, Commerce published notice in the Federal Register that it was revoking the order effective January 12, 2026, because no domestic interested party filed a timely notice of intent to participate. Accordingly, the subject review is terminated.

DATES: January 12, 2026.

FOR FURTHER INFORMATION CONTACT: Rachel Devenney (202-205-3172), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

Authority: This review is being terminated under authority of title VII of the Tariff Act of 1930 and pursuant to section 751(c) of the Tariff Act of 1930 (19 U.S.C. 1675(c)). This notice is published pursuant to section 207.69 of the Commission's rules (19 CFR 207.69).

By order of the Commission.
Issued: January 30, 2026.
Lisa Barton,
Secretary to the Commission.

[FR Doc. 2026-02235 Filed 2-3-26; 8:45 am]

BILLING CODE 7020-02-P